DEPARTMENT OF THE INTERIOR

Fish and Wildlife Service

[FWS-HQ-IA-2012-N244; FXIA16710900000P5-123-FF09A30000]

Endangered Species; Receipt of Applications for Permit

AGENCY: Fish and Wildlife Service, Interior.

ACTION: Notice of receipt of applications for permit.

SUMMARY: We, the U.S. Fish and Wildlife Service, invite the public to comment on the following applications to conduct certain activities with endangered species. With some exceptions, the Endangered Species Act (ESA) prohibits activities with listed species unless Federal authorization is acquired that allows such activities.

DATES: We must receive comments or requests for documents on or before November 19, 2012.

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken.

III. Permit Applications

A. Endangered Species

Applicant: Mesa Garden, Belen, NM; PRT-678845

The applicant requests renewal of a permit to export the following endangered and threatened cactus species for the purpose of enhancement of the species in the wild: Tobusch fishhook (Sclerocatus brevihamatus tobuschii), star cactus, (Astrophytum asterias), Nellie's cory cactus (Escobaria minima), bunched Cory cactus (Coryphantha ramillosa), Cochise pincushion cactus (Coryphantha robbinsorum), Sneed pincushion cactus (Escobaria sneedii v. sneedii), Lee pincushion cactus, (Escobaria sneedii v. leei), Chisos Mountain hedgehog cactus (Echinocereus chisoensis v. chisoensis), Kuenzler hedgehog cactus (Echinocereus fendleri v. kuenzleri), black lace cactus (Echinocereus reichenbachii v. albertii), Arizona hedgehog cactus (Echinocereus triglochidiatus v. arizonicus), Davis' green Pitaya (Echinocereus viridiflorus v. davisii), Lloyd's Mariposa cactus (Sclerocactus mariposensis) Brady's pincushion cactus (Pediocactus bradyi), San Rafael cactus (Pediocactus despainii), Knowlton's cactus (Pediocactus knowltonii), Peebles Navajo cactus (Pediocactus peeblesianus v. peeblesian), Siler pincushion cactus (Pediocactus sileri), Uinta Basin hookless cactus (Sclerocactus glaucus), Mesa Verde cactus (Sclerocactus mesae-verdae), Wright fishhook cactus (Sclerocactus wrightiae), Pima pineapple cactus (Coryphantha scheeri v. robustispina), and Nichols Turk's head cactus (Echinocactus horizonthalonius v. nicholii). This notification covers activities to be conducted by the applicant over a 5-year period.

Applicant: Wildlife Conservation Society, Bronx, NY; PRT-86344A

The applicant requests a permit to import five horned guan (Oreophasis derbianus) from Mexico for the purpose of enhancement of the survival of the species.

Applicant: Feld Entertainment, Inc., Vienna, VA; PRT-79461A

The applicant requests a permit to import two live captive-born tigers (Panthera tigris) for the purpose of enhancement of the survival of the species from Alexander Lacey of the Netherlands.

Applicant: Illinois State Museum Research and Collections Center, Springfield, IL; PRT-84293A

The applicant requests a permit to re-export wild biological samples of Hine's emerald dragonfly (Somatochlora hineana) to Canada for the purpose of enhancement of the survival of the species.

Applicant: Carson Springs Wildlife Conservation Foundation, Gainesville, FL; PRT-86835A

The applicant requests a permit to import four South African cheetahs, (Acinonyx jubatus jubatus) from South Africa for the purpose of conservation education and enhancement of the survival of the species. This notification covers activities to be conducted by the applicant over a 5-year period.

Applicant: Ferdinand Fercos Hantig and Anton Fercos Hantig, Las Vegas, NV; PRT-073403, 114454, and 206853

On April 06, 2012, we published a Federal Register notice inviting the public to comment on two applications for permits to conduct certain activities with endangered species (77 FR 20838). We are now reopening the comment period to allow the public the opportunity to review additional information submitted for the re-issuance of their permits to re-export and re-import three captive born tigers (Panthera tigris) to worldwide locations for the purpose of enhancement of the species. The permit numbers and animals are 073403, Sherni; 114454, Dora; and 206853, Allaya. This notification covers activities to be conducted by the applicant over a 3-year period.

Applicant: Indianhead Ranch, Inc.; Del Rio, TX; PRT-67596A

On August 3, 2012, we published a Federal Register notice inviting the public to comment on an application for a permit to conduct certain activities with endangered species (77 FR 46514). We are now amending the publication and reopening the comment period to allow the public the opportunity to comment on a request for a permit to export the sport-hunted trophies of one addax (Addax nasomaculatus) and one Scimitar horned oryx (oryx dammah) culled from a captive herd maintained in the state of Texas, for the purpose of enhancement of the survival of the species.

Applicant: Indianhead Ranch, Inc. Del Rio, TX; PRT-79115A

The applicant requests a permit to export the sport-hunted trophy of one addax (Addax nasomaculatus), culled from a captive herd maintained in the state of Texas, for the purpose of enhancement of the survival of the species.

Applicant: Indianhead Ranch, Inc. Del Rio, TX; PRT-79116A

The applicant requests a permit to export the sport-hunted trophies of one Scimitar horned oryx (oryx dammah) and one Dama gazelle (Nanger Dama), culled from a captive herd maintained in the state of Texas, for the purpose of enhancement of the survival of the species.

Applicant: 777 Ranch, Hondo, TX; PRT-85070A

The applicant requests a permit to export the sport-hunted trophy/trophies of one addax (Addax nasomaculatus), culled from a captive herd maintained in the state of Texas, for the purpose of enhancement of the survival of the species.

Applicant: Dinges Taxidermy Studio, Omaha, NE; PRT-86638A

The applicant requests a permit to export the sport-hunted trophy/trophies of one scimitar-horned oryx (Oryx dammah) and two Addax (Addax nasomaculatus) culled from a captive herd maintained in the state of Texas, for the purpose of enhancement of the survival of the species.

Applicant: Dinges Taxidermy Studio, Omaha, NE; PRT-86640A

The applicant requests a permit to export the sport-hunted trophy/trophies of one scimitar-horned oryx (Oryx dammah) and one addax (Addax nasomaculatus) culled from a captive herd maintained in the state of Texas, for the purpose of enhancement of the survival of the species.

Multiple Applicants

The following applicants each request a permit to import the sport-hunted trophy of one male bontebok (Damaliscus pygargus pygargus) culled from a captive herd maintained under the management program of the Republic of South Africa, for the purpose of enhancement of the survival of the species.

Applicant: Richard Creelman, Moultonboro, NH; PRT-81013A

Applicant: David Cote, Morristown, NJ; PRT-87103A

Applicant: David Smith, Humble, TX; PRT-86852A

Brenda Tapia,
Program Analyst/Data Administrator, Branch of Permits, Division of Management Authority.

[FR Doc. 2012-25610 Filed 10-17-12; 8:45 am]

BILLING CODE 4310-55-P